NATIONAL AERONAUTICS AND SPACE ADMINISTRATION

[Notice 13-018]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: March 1, 2013.

FOR FURTHER INFORMATION CONTACT: Mark W. Homer, Patent Counsel, NASA Management Office—JPL, 4800 Oak Grove Drive, Mail Stop 180-200, Pasadena, CA 91109; telephone (818) 354-7770.

NASA Case No.: DRC-012-011-1: Air Launch from a Towed Aircraft.

Sumara M. Thompson-King,
Deputy General Counsel.

[FR Doc. 2013-04803 Filed 2-28-13; 8:45 am]

BILLING CODE 7510-13-P